DEPARTMENT OF ENERGY

Federal Energy Regulatory Commission

[Project No. 2411-029]

STS Hydropower, LLC, City of Danville, Virginia, Eagle Creek Schoolfield, LLC; Notice of Application for Partial Transfer of License and Soliciting Comments, Motions To Intervene, and Protests

On June 14, 2021, STS Hydropower, LLC, (transferor), City of Danville, Virginia (co-licensee) and Eagle Creek Schoolfield, LLC (transferee) filed jointly an application for partial transfer of license for the Schoolfield Hydroelectric Project No. 2411. The project is located on the Dan River, in the City of Danville in Pittsylvania County, Virginia.

The applicants seek Commission approval to partially transfer the license for the Schoolfield Hydroelectric Project from the transferor to the transferee and keeping the City of Danville, Virginia and Eagle Creek Schoolfield, LLC as co-licensees. The transferee will be required by the Commission to comply with all the requirements of the license as though it were the original licensee.

Applicants Contact: For transferor: Mr. Martin Karpenski, STS Hydropower, LLC, c/o Eagle Creek Renewable Energy, LLC, 65 Madison Avenue, Morristown, NJ 07960, Phone: 973-998-8400, Email: marty.karpenski@eaglecreekre.com and Mr. Joshua E. Adrian, Thompson Coburn LLP, 1909 K Street NW, Suite 600, Washington, DC 20006, Phone: 202-585-6922, Email: jadrian@thompsoncoburn.com.

For co-licensee: Mr. Kenneth F. Larking, City Manager, City of Danville, P.O. Box 3300, 427 Patton St., Danville, VA 24543, Phone: 434-799-5100, Email: klarking@danvilleva.gov.

For transferee: Mr. Martin Karpenski, Eagle Creek Schoolfield, LLC, c/o Eagle Creek Renewable Energy, LLC, 65 Madison Avenue, Morristown, NJ 07960, Phone: 973-998-8400, Email: marty.karpenski@eaglecreekre.com and Mr. Joshua E. Adrian, Thompson Coburn LLP, 1909 K Street NW, Suite 600, Washington, DC 20006, Phone: 202-585-6922, Email: jadrian@thompsoncoburn.com.

FERC Contact: Anumzziatta Purchiaroni, (202) 502-6191, Anumzziatta.purchiaroni@ferc.gov.

Deadline for filing comments, motions to intervene, and protests: 15 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY).

In lieu of electronic filing, you may submit a paper copy. Submissions sent via U.S. Postal Service must be addressed to, Kimberly D. Bose, Secretary, Federal Energy Regulatory Commission, 888 First Street NE, Room 1A, Washington, DC 20426. Submissions sent via any other carrier must be addressed to, Kimberly D. Bose, Secretary, Federal Energy Regulatory Commission, 12225 Wilkins Avenue, Rockville, Maryland 20852. The first page of any filing should include docket number P-2411-029. Comments emailed to Commission staff are not considered part of the Commission record.

Dated: July 13, 2021.
Kimberly D. Bose,
Secretary.

[FR Doc. 2021-15408 Filed 7-19-21; 8:45 am]

BILLING CODE 6717-01-P